POSTAL SERVICE

Changes in Domestic Mail Classifications

AGENCY: Postal Service.

ACTION: Notice of implementation of changes to the Domestic Mail Classification Schedule.

SUMMARY: This notice sets forth the changes to the Domestic Mail Classification Schedule to be implemented as a result of the Decision of the Governors of the United States Postal Service on the Opinion and Recommended Decision of the Postal Rate Commission on Extension of Capital One NSA, Docket No. MC2006-6.

DATES: Effective Date: September 13, 2006.

FOR FURTHER INFORMATION CONTACT: Matthew J. Connolly, (202) 268-8582.

SUPPLEMENTARY INFORMATION: On July 26, 2006 the United States Postal Service, in conformance with chapter 36 of the Postal Reorganization Act (39 U.S.C. 101 et seq.), filed a request for a recommended decision by the Postal Rate Commission (PRC) asking that it recommend a one-year extension of an existing negotiated service agreement (NSA) with Capital One Services, Inc. The PRC designated this filing as Docket No. MC2006-6. On August 25, 2006, pursuant to 39 U.S.C. 3624, the PRC issued to the Governors of the Postal Service its Opinion and Recommended Decision Approving the Extension of the Duration of a Negotiated Service Agreement, Docket No. MC2006-6. The PRC recommended that the NSA with Capital One Services, Inc. be extended for one year, through September 1, 2007.

Pursuant to 39 U.S.C. 3625, the Governors of the United States Postal Service acted on the PRC's recommendation on September 11, 2006. In the Decision of the Governors of the United States Postal Service on the Opinion and Recommended Decision of the Postal Rate Commission on Extension of Capital One NSA, Docket No. MC2006-6, the Governors of the Postal Service approved the recommended decision. In accordance with Resolution 06-8, the Board of Governors established an implementation date of September 13, 2006 on which the approved changes to the classification schedule for Negotiated Service Agreements take effect. The attachment to the Governors' Decision, setting forth the classification changes ordered into effect by the Governors, is set forth below.

In accordance with the Decision of the Governors and Resolution No. 06-8 of the Board of Governors, the Postal Service hereby gives notice that the classification changes set forth below became effective at 12:01 a.m. on September 13, 2006.

Attachment to the Decision of the Governors of the United States Postal Service on the Opinion and Recommended Decision of the Postal Rate Commission on Extension of Capital One NSA, Docket No. MC2006-6

(Additions Underlined; Deletions in Brackets)

Domestic Mail Classification Schedule

Negotiated Service Agreements, Classification Schedule

610 Capital One Negotiated Service Agreement

* * * * *

610.33 Additional Discounts (Year 2 [and Year 3], Year 3, and Year 4). If eligible First-Class Mail volume for the first year is less than 1.025 billion pieces, the additional discount tiers shown in Rate Schedule 610B shall apply to the incremental volumes in the second [and third], third, and fourth years in addition to the incremental discounts in Rate Schedule 610A.

* * * * *

610.5 Expiration

The provisions of section 610 expire on September 1, [2006]2007 at 12:01 a.m.

* * * * *

Stanley F. Mires,
Chief Counsel, Legislative.

[FR Doc. 06-8195 Filed 9-22-06; 8:45 am]

BILLING CODE 7710-12-P